DEPARTMENT OF JUSTICE

Antitrust Division

Notice Pursuant to the National Cooperative Research and Production Act of 1993—Halon Alternatives Research Corporation, Inc.

Notice is hereby given that on March 8, 2006, pursuant to section 6(a) of the National Cooperative Research and Production Act of 1993, 15 U.S.C. 4301 et seq. (“the Act”), Halon Alternatives Research Corporation, Inc. (“HARC”) has filed written notifications simultaneously with the Attorney General and the Federal Trade Commission disclosing changes in its membership. The notifications were filed for the purpose of extending the Act's provisions limiting the recovery of antitrust plaintiffs to actual damages under specified circumstances. Specifically, Aerojet, Rocket Research Company, Redmond, WA; Amerex Corporation, Trussville, AL; British Airways, Harmondsworth, UNITED KINGDOM; Chemetron Fire Systems, Matteson, IL; Firetrace USA, LLC, Scottsdale, AZ; H3R, Inc., Larkspur, CA; Honeywell, Buffalo, NY; Powsus, Inc., Fort Pierce, FL; Siemens, Florham Park, NJ; Fike Corporation, Blue Springs, MO; Fireline Corporation, Baltimore, MD; Ginge-Kerr Denmark A/S, Copenhagen, DENMARK; Halon Banking Systems, St. Paul, MN; Heien-Larssen AS, Spikkestad, NORWAY; Koatsu Company, Ltd., Hyogo, JAPAN; Metalcraft, Inc., Baltimore, MD; Modular Protection Group, Lenexa, KS; RemTec International, Holland, OH; and Superior Safety Inc., Thunderbay, Ontario, CANADA have been added as parties to this venture.

Also, Chubb Fire Limited, Sunbury-on-Thames, Middlesex, UNITED KINGDOM; ICI Americas, Inc., Wilmington, DE; National Fire Protection Association, Quincy, MA; Alyeska Pipeline Service Company, Anchorage, AK; ASCOA Fire Systems, Cleveland, OH; Atochem North America, Inc., Philadelphia, PA; Exxon Company, USA, Anchorage, AK; Fire and Safety International, Tokyo, JAPAN; MCI Telecommunications Corp., Washington, DC; Mobil Oil Corporation; Tokyo, JAPAN; Nissho Industries Ltd., Tokyo, JAPAN; North American Fire Guardian Technology, Inc., Vancouver, British Columbia, CANADA; Underwriters Laboratories, Inc., Chicago, IL; Yamato Protec Corp., Tokyo, JAPAN; AT&T Corporation, Basking Ridge, NJ; Dresser Industries, Berea, KY; Edison Electric Institute, Washington, DC; Jeng Dah Extinguisher Company, Ltd., Taipei, TAIWAN; Northern Telecom, Ltd., Mississauga, Ontario, CANADA; Phillips Petroleum, Bartlesville, OK; Shell International Petroleum Mij. B.V., The Hague, NETHERLANDS; Automatic Suppression Systems, South Holland, IL; Engineered Fire Systems, South Holland, IL; Engineered Fire Systems, Seattle, WA; Exxon Company, International, Florham Park, NJ; Fire Equipment Manufacturers Association, Cleveland, OH; Hi-Fog, Exton, PA; Northern States Power, Minneapolis, MN; Overland Aviation Services, St. Louis, MO; Pyrene Fire Security, Markham, Ontario, CANADA; Quantum Corporation, Milpitas, CA; Saab Aircraft AB, Linkoping, SWEDEN; Securiplex Technologies, Dorval, Quebec, CANADA; Silvani Antincendi Spa, Milan, ITALY; Solvay Performance Chemical, Inc., Greenwich, CT; 3H Taiwan Industries Corporation, Hsi Chih, Taipei Hsien, TAIWAN; AES-Ntron, Exton, PA; Control Fire Systems, Ltd., Toronto, Ontario, CANADA; Fireboy-Xintex, Grand Rapids, MI; Gielle, Altamura, ITALY; Grinnell Corp., Cranston, RI; JN Johnson Sales & Service, Minneapolis, MN; Magnavox Electronic Systems Company, Fort Wayne, IN; New Mexico Engineering Research Inst., Albuquerque, NM; Norsk Hydro, Oslo, NORWAY; Pipeline Authority, Canberra, Australian Capital Territory, AUSTRALIA; Taylor/Wagner Inc., Willowdale, Ontario, CANADA; and Union Camp Corporation, Savannah, GA have withdrawn as parties to this venture.

No other changes have been made in either the membership or planned activity of the group research project. Membership in this group research project remains open, and HARC intends to file additional written notification disclosing all changes in membership.

On February 7, 1990, HARC filed its original notification pursuant to section 6(a) of the Act. The Department of Justice published a notice in the Federal Register pursuant to section 6(b) of the Act on March 8, 1990 (55 FR 8204).

The last notification was filed with the Department on August 4, 1994. A notice was published in the Federal Register pursuant to section 6(b) of the Act on September 9, 1994 (59 FR 46662).

Dorothy B. Fountain,
Deputy Director of Operations, Antitrust Division.

[FR Doc. 06-4337 Filed 5-9-06; 8:45 am]

BILLING CODE 4110-11-M